DEPARTMENT OF HOMELAND SECURITY

Federal Emergency Management Agency

44 CFR Part 67

[Docket ID FEMA-2008-0020; Internal Agency Docket No. FEMA-B-1058]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before November 2, 2009.

ADDRESSES: The corresponding preliminary Flood Insurance Rate Map (FIRM) for the proposed BFEs for each community is available for inspection at the community's map repository. The respective addresses are listed in the table below.

You may submit comments, identified by Docket No. FEMA-B-1058, to William R. Blanton Jr., Chief, Engineering Management Branch, Mitigation Directorate, Federal Emergency Management Agency, 500 C Street, SW., Washington, DC 20472, (202) 646-3151, or (e-mail) bill.blanton@dhs.gov.

FOR FURTHER INFORMATION CONTACT: William R. Blanton Jr., Chief, Engineering Management Branch, Mitigation Directorate, Federal Emergency Management Agency, 500 C Street, SW., Washington, DC 20472, (202) 646-3151, or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Barnstable County, Massachusetts (All Jurisdictions)
Atlantic Ocean | Along the shoreline at the south end of Ocean View Drive | +9 | +14 | Town of Chatham, Town of Eastham, Town of Orleans, Town of Provincetown, Town of Truro.
| Along the shoreline, approximately 1,200 feet south of the projection of Beach Road | +12 | +14
Buzzards Bay | Along the shoreline, approximately 130 feet west of the intersection of County Road and Pine Bank Road | +18 | +21 | Town of Falmouth.
Cape Cod Bay | Along the shoreline at the intersection of Commercial Street and Conway Street | None | +9 | Town of Provincetown, Town of Barnstable, Town of Brewster, Town of Sandwich, Town of Truro, Town of Wellfleet.
| Along the shoreline at the intersection of Ellis Landing Road and Captain Dunbar Road | None | +17
Nantucket Sound | Along the shoreline approximately 550 feet south of the intersection of Chase Avenue and Belmont Road | +10 | +14 | Town of Barnstable, Town of Chatham, Town of Dennis, Town of Harwich, Town of Yarmouth.
| Along the shoreline, approximately 750 feet west of the Parker's River western jetty | None | +15
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Barnstable
Maps are available for inspection at the Town Hall, 367 Main Street, Hyannis, MA 02649.
Town of Brewster
Maps are available for inspection at the Town Hall, 2198 Main Street, Brewster, MA 02631.
Town of Chatham
Maps are available for inspection at the Town Hall, 549 Main Street, Chatham, MA 02633.
Town of Dennis
Maps are available for inspection at the Town Hall, 485 Main Street, South Dennis, MA 02660.
Town of Eastham
Maps are available for inspection at the Town Hall, 2500 State Highway, Eastham, MA 02642.
Town of Falmouth
Maps are available for inspection at the Town Hall, 59 Town Hall Square, Falmouth, MA 02540.
Town of Harwich
Maps are available for inspection at the Town Hall, 732 Main Street, Harwich, MA 02645.
Town of Orleans
Maps are available for inspection at the Town Hall, 19 School Road, Orleans, MA 02653.
Town of Provincetown
Maps are available for inspection at the Town Hall, 260 Commercial Street, Provincetown, MA 02657.
Town of Sandwich
Maps are available for inspection at the Town Hall, 130 Main Street, Sandwich, MA 02563.
Town of Truro
Maps are available for inspection at the Town Hall, 24 Town Hall Road, Truro, MA 02666.
Town of Wellfleet
Maps are available for inspection at the Town Hall, 300 Main Street, Wellfleet, MA 02667.
Town of Yarmouth
Maps are available for inspection at the Town Hall, 1146 Route 28, South Yarmouth, MA 02664.

(Catalog of Federal Domestic Assistance No. 97.022, “Flood Insurance.”)

Dated: July 23, 2009.
Deborah S. Ingram,
Acting Deputy Assistant Administrator for Mitigation, Mitigation Directorate, Department of Homeland Security, Federal Emergency Management Agency.

[FR Doc. E9-18407 Filed 7-31-09; 8:45 am]

BILLING CODE 9110-12-P